DEPARTMENT OF THE TREASURY

Alcohol and Tobacco Tax and Trade Bureau

27 CFR Part 9

[Docket No. TTB-2023-0011; Notice No. 229]

RIN 1513-AD04

Proposed Establishment of the Tryon Foothills Viticultural Area

AGENCY: Alcohol and Tobacco Tax and Trade Bureau, Treasury.

ACTION: Notice of proposed rulemaking.

SUMMARY: The Alcohol and Tobacco Tax and Trade Bureau (TTB) proposes establishing the approximately 176-square mile “Tryon Foothills” viticultural area in Polk County, North Carolina. The proposed viticultural area is not within any other established viticultural area. TTB designates viticultural areas to allow vintners to better describe the origin of their wines and to allow consumers to better identify wines they may purchase. TTB invites comments on this proposed addition to its regulations.

DATES: Comments must be received by March 5, 2024.

ADDRESSES: You may electronically submit comments to TTB on this proposal using the comment form for this document posted within Docket No. TTB-2023-0011 on the Regulations.gov website at https://www.regulations.gov. At the same location, you also may view copies of this document, the related petition and selected supporting materials, and any comments TTB receives on this proposal. A direct link to that docket is available on the TTB website at https://www.ttb.gov/wine/notices-of-proposed-rulemaking under Notice No. 229. Alternatively, you may submit comments via postal mail to the Director, Regulations and Ruling Division, Alcohol and Tobacco Tax and Trade Bureau, 1310 G Street NW, Box 12, Washington, DC 20005. Please see the Public Participation section of this document for further information on the comments requested on this proposal and on the submission, confidentiality, and public disclosure of comments.

FOR FURTHER INFORMATION CONTACT: Karen A. Thornton, Regulations and Rulings Division, Alcohol and Tobacco Tax and Trade Bureau, 1310 G Street NW, Box 12, Washington, DC 20005; phone 202-453-1039, ext. 175.

SUPPLEMENTARY INFORMATION:

Background on Viticultural Areas

TTB Authority

Section 105(e) of the Federal Alcohol Administration Act (FAA Act), 27 U.S.C. 205(e), authorizes the Secretary of the Treasury to prescribe regulations for the labeling of wine, distilled spirits, and malt beverages. The FAA Act provides that these regulations should, among other things, prohibit consumer deception and the use of misleading statements on labels and ensure that labels provide the consumer with adequate information as to the identity and quality of the product. The Alcohol and Tobacco Tax and Trade Bureau (TTB) administers the FAA Act pursuant to section 1111(d) of the Homeland Security Act of 2002, codified at 6 U.S.C. 531(d). In addition, the Secretary of the Treasury has delegated certain administrative and enforcement authorities to TTB through Treasury Order 120-01.

Part 4 of the TTB regulations (27 CFR part 4) authorizes TTB to establish definitive viticultural areas and regulate the use of their names as appellations of origin on wine labels and in wine advertisements. Part 9 of the TTB regulations (27 CFR part 9) sets forth standards for the preparation and submission of petitions for the establishment or modification of American viticultural areas (AVAs) and lists the approved AVAs.

Definition

Section 4.25(e)(1)(i) of the TTB regulations (27 CFR 4.25(e)(1)(i)) defines a viticultural area for American wine as a delimited grape-growing region having distinguishing features as described in part 9 of the regulations and, once approved, a name and a delineated boundary codified in part 9 of the regulations. These designations allow vintners and consumers to attribute a given quality, reputation, or other characteristic of a wine made from grapes grown in an area to the wine's geographic origin. The establishment of AVAs allows vintners to describe more accurately the origin of their wines to consumers and helps consumers to identify wines they may purchase. Establishment of an AVA is neither an approval nor an endorsement by TTB of the wine produced in that area.

Requirements

Section 4.25(e)(2) of the TTB regulations (27 CFR 4.25(e)(2)) outlines the procedure for proposing an AVA and allows any interested party to petition TTB to establish a grape-growing region as an AVA. Section 9.12 of the TTB regulations (27 CFR 9.12) prescribes standards for petitions to establish or modify AVAs. Petitions to establish an AVA must include the following:

• Evidence that the area within the proposed AVA boundary is nationally or locally known by the AVA name specified in the petition;

• An explanation of the basis for defining the boundary of the proposed AVA;

• A narrative description of the features of the proposed AVA affecting viticulture, such as climate, geology, soils, physical features, and elevation, that make the proposed AVA distinctive and distinguish it from adjacent areas outside the proposed AVA;

• The appropriate United States Geological Survey (USGS) map(s) showing the location of the proposed AVA, with the boundary of the proposed AVA clearly drawn thereon; and

• A detailed narrative description of the proposed AVA boundary based on USGS map markings.

Tryon Foothills Petition

TTB received a petition from Cory J. Lillberg, vineyard manager of Parker-Binns Vineyard, proposing the “Tryon Foothills” AVA. Mr. Lillberg submitted the petition on behalf of Parker-Binns Vineyard and other local vineyard and winery operators. The proposed Tryon Foothills AVA is located in Polk County, North Carolina. It contains approximately 176 square miles, with five vineyards covering a total of approximately 77.70 acres spread throughout the proposed AVA. There are also four wineries within the proposed AVA.

According to the petition, the distinguishing features of the proposed Tryon Foothills AVA include its topography and climate. Unless otherwise noted, all information and data pertaining to the proposed AVA is from the petition and its supporting exhibits.

Name Evidence

The proposed Tryon Foothills AVA is located in the Inner Piedmont region of the Blue Ridge Mountains of North Carolina and includes the town of Tryon. The petition states that the Inner Piedmont region is commonly referred to as the “foothills” of the Blue Ridge Mountains. For example, the petition references the Tryon Fitness and Health Club, which states on its website that it is “located in the beautiful foothills of Tryon, NC. . . .” The petition also notes that the website of Polk County Schools, which serves the region of the proposed AVA and is headquartered in Columbus, North Carolina, states that its schools are “. . . in a small, mostly rural county in the foothills of the Blue Ridge Mountains.” A real estate company serving the proposed AVA has a section on its website describing “Fall in Tryon's Foothills.” ¹ The petition provides other examples of business or organizations within or serving the proposed AVA that use the term “foothills” including the Carolina Foothills Chamber of Commerce, Foothills Community Chapel, Grace Foothills Church, the Foothills Equestrian Nature Center, the Foothills Astronomical Society, Foothills Fine Art, Foothills Pharmacy, and the Foothills Music Club.

¹ http://lakeshillsandhorses.com/blog.

The petition also includes examples of use of the term “Tryon Foothills” to describe the region of the proposed AVA. A travel website encourages visitors to “[u]nwind at the picturesque vineyards in the Tryon Foothills Wine Country.” ² A listing on a vacation rental website offers a home that is available for a “Tryon Foothills Getaway.” ³ A second vacation rental website also features rentals “in the Tryon Foothills.” ⁴ The Tryon Foothills Classic is an annual horse jumping event held in the proposed AVA. A limousine service offers tours of the wineries of the “Tryon foothills.” ⁵ Finally, Tryon Foothills Realty is a real estate agency located in Tryon.

² https://www.romanticasheville.com/wine-country.

³ https://www.airbnb.com/rooms/4297004.

⁴ https://Yondervacationrentals.com/vacation-rentals/tryon.

⁵ https://www.tryonwinetours.com.

Boundary Evidence

The proposed Tryon Foothills AVA is roughly shaped like a triangle with the apex pointing north. The proposed eastern boundary follows the shared Polk-Rutherford County line and separates the proposed AVA from lower elevations. The proposed southern boundary follows the shared North Carolina-South Carolina State line and separates the proposed AVA from regions that are not associated with the town of Tryon. The proposed western boundary follows the 1,200-foot elevation contour and separates the proposed AVA from the higher elevations of the Blue Ridge Escarpment.

Distinguishing Features

The distinguishing features of the proposed Tryon Foothills AVA include its topography and climate.

Topography

The proposed Tryon Foothills AVA is located on the western edge of the Inner Piedmont region of the Blue Ridge Mountains. The petition describes the Inner Piedmont as a region of low mountains and rolling hills. The average elevation within the proposed AVA is 988 feet, while the maximum elevation is 1,656 feet and the minimum is 712 feet.

To the west and northwest of the proposed AVA are the Blue Ridge Escarpment and the Blue Ridge Plateau. The petition describes the Blue Ridge Escarpment as steep and rugged, while the Blue Ridge Plateau is an elevated massif of basins and ranges that constitutes the bulk of the Blue Ridge Mountains. Elevations in both of these regions are significantly higher than within the proposed AVA, with average elevations of 2,584 feet and 2,649 feet, respectively. The region to the northeast of the proposed AVA is also higher, with an average elevation of 1,652 feet. This region is comprised of portions of the Blue Ridge Escarpment and the Inner Piedmont, as well as the South Mountains. Elevations immediately east of the proposed AVA in the Inner Piedmont region are higher but then decline as the Inner Piedmont region gives way to the Carolina Superterrane. The average elevation east of the proposed AVA is 987 feet, while the maximum is 2,968 feet and the minimum is 567 feet. South of the proposed AVA is a continuation of the Inner Piedmont region, but the elevations are generally lower than within the proposed AVA. The average elevation south of the proposed AVA is 880 feet, while the maximum and minimum elevations are 3,341 feet and 390 feet, respectively.

According to the petition, the proposed AVA's topography contributes to the creation of a thermal belt. At night, warm air that has accumulated at high elevations loses its heat by conductive radiation. The air becomes cooler and heavier and begins to sink to lower elevations. As the cool air sinks, it displaces the warmer air at lower elevations. The warm air settles on the mountain slopes above the cascading cooler air and creates a warmer layer of air above the cooler air. This warmer layer is known as a thermal belt. Within the proposed Tryon Foothills AVA, the thermal belt results in warmer temperatures than are found in the surrounding regions.

Climate

To support the claim that the climate of the proposed Tryon Foothills AVA differs from that of the surrounding regions, the petition includes information on the average annual temperatures, average growing season temperatures, average growing season length, and average annual growing degree day ⁶ (GDD) accumulations for locations within the proposed AVA and the surrounding regions. The petition also included average annual and growing season precipitation amounts for the proposed AVA and the surrounding regions. All data was collected using the 1980-2010 climate normals.

⁶ See Albert J. Winkler, General Viticulture (Berkeley: University of California Press, 1974), pp. 61-64. In the Winkler climate classification system, annual heat accumulation during the growing season, measured in annual Growing Degree Days (GDDs), defines climatic regions. One GDD accumulates for each degree Fahrenheit that a day's mean temperature is above 50 degrees F, the minimum temperature required for grapevine growth. The Winkler scale regions are as follows: Region Ia: 1,500-2,000 GDDs; Region Ib: 2,000-2,500 GDDs; Region II: 2,500-3,000 GDDs; Region III: 3,000-3,500 GDDs; Region IV: 3,500-4,000 GDDs; Region V: 4,000-4,900 GDDs.

The petition states that, in general, the regions to the west, northwest, and northeast of the proposed AVA are cooler and have a greater range of average temperatures than the proposed AVA. The region south of the proposed AVA is warmer, as temperatures grow progressively warmer the farther south one travels from the proposed AVA. The proposed AVA and the region to the east have approximately the same average annual temperatures, but the region to the east has a lower average minimum temperature.

Table 1—Average Annual Temperatures in Degrees Fahrenheit (F)
Region | Average minimum | Average maximum | Average
Proposed AVA | 59 | 60 | 59.2
Northwest | 47 | 59 | 54.1
Northeast | 49 | 59 | 56.7
East | 53 | 60 | 59.1
South | 54 | 61 | 60.3
West | 47 | 59 | 54.6

The petition also categorizes average growing season temperatures ⁷ according to the Winegrape Climate/Maturity Groupings classification system.⁸ Although a percentage of each of the regions fall into the “Hot” category, the proposed Tryon Foothills AVA is entirely within the “Hot” category, indicating a warmer growing season than the surrounding regions. According to the classification system, “Hot” regions are most suitable for growing varietals of grapes such as Zinfandel, Grenache, and Cabernet Sauvignon.

⁷ The growing season is defined as the period from April 1 to October 31.

⁸ Jones, G.V., Climate and Terroir Variability and Change on Wine: Presentation: In Fine Wine and Terroir—The Geoscience Perspective, McQueen, R.W., and Meinert, L.D. (eds.), Geoscience Canada Reprint Series Number 9, Geological Association of Canada, St. John's Newfoundland, (2006), p. 247.

Table 2—Distribution of Winegrape Climate/Maturity Groupings
Region | Percentage of region in each grouping: Cool (55-59 degrees F) | Percentage of region in each grouping: Intermediate (59-63 degrees F) | Percentage of region in each grouping: Warm (63-67 degrees F) | Percentage of region in each grouping: Hot (67-72 degrees F)
Proposed AVA |  |  |  | 100
Northwest | 0.49 | 26.89 | 69.31 | 3.31
Northeast |  | 8.93 | 22.21 | 68.86
East |  |  | 2.03 | 97.97
South |  |  | 2.72 | 97.28
West | 0.72 | 9.77 | 76.41 | 13.10

The petition included information on the average length of the growing season for the locations within the proposed AVA and the surrounding regions. Within each region there are a range of growing seasons based primarily on elevation. Although each region has a percentage of land within the 200-210 day growing season range, the proposed AVA has the largest percentage of land within this range. Each of the surrounding regions also contains lands that have growing seasons that are as short as 170 days, while the shortest growing season length within the proposed AVA is between 190 and 200 days.

Table 3—Growing Season Length Comparison
Comparison areas | Growing season length in days: 120-130 | Growing season length in days: 130-140 | Growing season length in days: 140-150 | Growing season length in days: 150-160 | Growing season length in days: 160-170 | Growing season length in days: 170-180 | Growing season length in days: 180-190 | Growing season length in days: 190-200 | Growing season length in days: 200-210 | Growing season length in days: 210-220
| Percentage of occurrence in each area
Proposed AVA |  |  |  |  |  |  |  | 0.40 | 99.6 |
Northwest | 0.01 | 0.03 | 1.04 | 4.10 | 12.16 | 24.22 | 51.84 | 5.64 | 0.73 |
Northeast |  |  | 0.09 | 0.50 | 3.03 | 6.76 | 13.48 | 42.74 | 33.41 |
East |  |  |  |  |  | 0.09 | 1.31 | 7.17 | 91.43 |
South |  |  |  |  |  | 1.12 | 1.55 | 3.14 | 87.26 | 6.93
West |  | 0.08 | 0.50 | 2.01 | 7.42 | 33.77 | 48.85 | 5.70 | 0.67 |

To further demonstrate the warm climate of the proposed Tryon Foothills AVA, the petition provided information on the GDDs of the proposed AVA and the surrounding regions. The proposed AVA has a larger percentage of land classified as Region V than any of the surrounding regions, except the region to the south. Unlike each of the surrounding regions, the proposed AVA lacks land classified as Region III or lower.

Table 4—Growing Degree Day Comparisons
Comparison areas | Growing degree day zones: Too cold | Growing degree day zones: IA | Growing degree day zones: IB | Growing degree day zones: II | Growing degree day zones: III | Growing degree day zones: IV | Growing degree day zones: V
| Percentage of occurrence in each area
Proposed AVA |  |  |  |  |  | 5.0 | 95.0
Northwest | 0.1 | 0.8 | 14.0 | 32.0 | 49.0 | 4.0 | 0.1
Northeast |  | 0.1 | 5.0 | 11.0 | 14.0 | 61.0 | 8.9
East |  |  |  | 0.1 | 1.3 | 16.0 | 82.6
South |  |  |  | 0.7 | 1.8 | 1.9 | 95.6
West | 0.1 | 0.7 | 10.9 | 36.6 | 49.2 | 2.5 |

The petition also included information on the percentage of land within the proposed AVA and surrounding regions that is in each of the four Viticultural Suitability Zones.⁹ The zones are based on climate conditions and were designed to help determine the best grape varietals to grow in a given area. The zones range from Zone 1, the warmest, to Zone 4, the coldest. The petition compared the proposed AVA, which is located in Polk County, to neighboring Rutherford, Cleveland, and Gaston Counties.¹⁰ The zones indicate that temperatures increase as one moves eastward towards the Atlantic Ocean. According to the petition, 82 percent of the proposed Tryon Foothills AVA is in Zone 3, which is best suited to vinifera, hybrid, and native American varieties of grapes, and 18 percent is in Zone 2, which is suitable for growing a variety of muscadines, vinifera, hybrid, and native American varieties of grapes. Gaston County, the easternmost county in the comparison area, has a large percentage of land in Zone 1, which is recommended only for muscadines. None of the comparison areas contained land in the coldest Zone 4, although counties farther to the west of the proposed AVA do have some areas that are in Zone 4.¹¹

⁹ The North Carolina Winegrape Grower's Guide: Raleigh, NC, North Carolina Cooperative Extension Service (E. Barclay Poling, Sara Spayd, eds., 2015), available at Content.ces.ncsu.edu/north-carolina-winegrape-growers-guide. A copy of the zone map is included in the petition as Figure 19 in Docket No. TTB-2023-0011 at https://www.regulations.gov.

¹⁰ Rutherford County is located to the north, northeast, and east of Polk County. Cleveland County is adjacent to and due east of Rutherford County, while Gaston County is adjacent to and due east of Cleveland County.

¹¹ See Figure 19 to the petition in Docket TTB-2023-0011 at https://www.regulations.gov.

Table 5—Viticultural Suitability Zones
Comparison areas | Areas (sq. miles) and percentages of land in each zone: Total area | Areas (sq. miles) and percentages of land in each zone: Zone 3 | Areas (sq. miles) and percentages of land in each zone: Zone 2 | Areas (sq. miles) and percentages of land in each zone: Zone 1
Proposed AVA | 175.8 | 82.0 | 18.0 |
Rutherford County | 565.7 | 68.7 | 31.3 |
Cleveland County | 468.1 | 30.9 | 69.1 |
Gaston County | 364.0 |  | 28.0 | 72.0

Finally, the petition included information on the average annual and growing season ¹² precipitation amounts for the proposed AVA and surrounding regions. With respect to annual precipitation amounts, the proposed AVA has higher average amounts than each of the surrounding regions except the region to the west, lower maximum amounts than each region except those to the northeast and east, and higher minimum amounts than each of the surrounding regions. For growing season precipitation amounts, the proposed AVA has higher minimum amounts than each of the surrounding regions, higher average amounts than each of the surrounding regions except the region to the west, and maximum amounts lower than each region except the regions to the northeast and east. According to the petition, the ideal growing season precipitation amount for mature grapevines is 24 to 30 inches.¹³ Excessive growing season precipitation can promote excess vigor and fungal diseases and attracts pests. Insufficient growing season precipitation can result in reduced photosynthesis, cell desiccation, and potential death of the grapevines.

¹² Defined in the petition as the period from April 1 through October 1.

¹³ The North Carolina Wine-grape Grower's Guide: Raleigh, NC State Extension.

Table 6—Average Annual and Growing Season Precipitation
[Amounts (in inches)]
Comparison areas | Average annual precipitation: Minimum | Average annual precipitation: Maximum | Average annual precipitation: Average | Average growing season precipitation: Minimum | Average growing season precipitation: Maximum | Average growing season precipitation: Average
Proposed AVA | 49 | 65 | 53.3 | 28 | 38 | 30.9
Northwest | 36 | 72 | 46.3 | 22 | 41 | 26.9
Northeast | 40 | 60 | 49.8 | 27 | 36 | 29.6
East | 45 | 59 | 49.4 | 26 | 34 | 28.7
South | 44 | 83 | 50.2 | 25 | 47 | 28.7
West | 45 | 93 | 63.9 | 27 | 51 | 36.6

TTB Determination

TTB concludes that the petition to establish the proposed Tryon Foothills AVA merits consideration and public comment, as invited in this notice of proposed rulemaking.

Boundary Description

See the narrative description of the boundary of the petitioned-for AVA in the proposed regulatory text published at the end of this proposed rule.

Maps

The petitioner provided the required maps, and TTB lists them below in the proposed regulatory text. You may also view the proposed Tryon Foothills AVA boundary on the AVA Map Explorer on the TTB website, at https://www.ttb.gov/wine/ava-map-explorer.

Impact on Current Wine Labels

Part 4 of the TTB regulations prohibits any label reference on a wine that indicates or implies an origin other than the wine's true place of origin. For a wine to be labeled with an AVA name, at least 85 percent of the wine must be derived from grapes grown within the area represented by that name, and the wine must meet the other conditions listed in § 4.25(e)(3) of the TTB regulations (27 CFR 4.25(e)(3)). If the wine is not eligible for labeling with an AVA name and that name appears in the brand name, then the label is not in compliance and the bottler must change the brand name and obtain approval of a new label. Similarly, if the AVA name appears in another reference on the label in a misleading manner, the bottler would have to obtain approval of a new label. Different rules apply if a wine has a brand name containing an AVA name that was used as a brand name on a label approved before July 7, 1986. See § 4.39(i)(2) of the TTB regulations (27 CFR 4.39(i)(2)) for details.

If TTB establishes this proposed AVA, its name, “Tryon Foothills,” will be recognized as a name of viticultural significance under § 4.39(i)(3) of the TTB regulations (27 CFR 4.39(i)(3)). The text of the proposed regulation clarifies this point. Consequently, wine bottlers using the name “Tryon Foothills” in a brand name, including a trademark, or in another label reference as to the origin of the wine, would have to ensure that the product is eligible to use the AVA name as an appellation of origin if TTB adopts this proposed rule as a final rule.

Public Participation

Comments Invited

TTB invites comments from interested members of the public on whether it should establish the proposed Tryon Foothills AVA. TTB is also interested in receiving comments on the sufficiency and accuracy of required information submitted in support of the petition. Please provide specific information in support of your comments.

Because of the potential impact of the establishment of the proposed Tryon Foothills AVA on wine labels that include the term “Tryon Foothills” as discussed above under Impact on Current Wine Labels, TTB is particularly interested in comments regarding whether there will be a conflict between the proposed AVA name and currently used brand names. If a commenter believes that a conflict will arise, the comment should describe the nature of that conflict, including any anticipated negative economic impact that approval of the proposed AVA will have on an existing viticultural enterprise. TTB is also interested in receiving suggestions for ways to avoid conflicts, for example, by adopting a modified or different name for the proposed AVA.

Submitting Comments

You may submit comments on this proposal by using one of the following methods:

• Federal e-Rulemaking Portal: You may send comments via the online comment form posted with this document within Docket No. TTB-2023-0011 on “Regulations.gov,” the Federal e-rulemaking portal, at https://www.regulations.gov. A direct link to that docket is available under Notice No. 229 on the TTB website at https://www.ttb.gov/wine/notices-of-proposed-rulemaking. Supplemental files may be attached to comments submitted via Regulations.gov. For complete instructions on how to use Regulations.gov, visit the site and click on the FAQ link at the bottom of the page.

• U.S. Mail: You may send comments via postal mail to the Director, Regulations and Rulings Division, Alcohol and Tobacco Tax and Trade Bureau, 1310 G Street NW, Box 12, Washington, DC 20005. Please submit your comments by the closing date shown above in this document. Your comments must reference Notice No. 229 and include your name and mailing address. Your comments also must be made in English, be legible, and be written in language acceptable for public disclosure. We do not acknowledge receipt of comments, and we consider all comments as originals. Your comment must clearly state if you are commenting on your own behalf or on behalf of an organization, business, or other entity. If you are commenting on behalf of an organization, business, or other entity, your comment must include the entity's name as well as your name and position title. If you comment via Regulations.gov, please enter the entity's name in the “Organization” blank of the online comment form. If you comment via postal mail, please submit your entity's comment on letterhead.

You may also write to the Administrator before the comment closing date to ask for a public hearing. The Administrator reserves the right to determine whether to hold a public hearing.

Confidentiality and Disclosure of Comments

All submitted comments and attachments are part of the rulemaking record and are subject to public disclosure. Do not enclose any material in your comments that you consider confidential or that is inappropriate for disclosure.

TTB will post, and you may view, copies of this document, the related petition and selected supporting materials, and any comments TTB receives about this proposal within the related Regulations.gov docket. In general, TTB will post comments as submitted, and it will not redact any identifying or contact information from the body of a comment or attachment.

Please contact TTB's Regulations and Rulings division by email using the web form available at https://www.ttb.gov/contact-rrd, or by telephone at 202-453-2265, if you have any questions about commenting on this proposal or to request copies of this document, the related petition and its supporting materials, or any comments received.

Regulatory Flexibility Act

TTB certifies that this proposed regulation, if adopted, would not have a significant economic impact on a substantial number of small entities. The proposed regulation imposes no new reporting, recordkeeping, or other administrative requirement. Any benefit derived from the use of a viticultural area name would be the result of a proprietor's efforts and consumer acceptance of wines from that area. Therefore, no regulatory flexibility analysis is required.

Executive Order 12866

It has been determined that this proposed rule is not a significant regulatory action as defined by Executive Order 12866 of September 30, 1993, as amended. Therefore, no regulatory assessment is required.

List of Subjects in 27 CFR Part 9

Wine.

Proposed Regulatory Amendment

For the reasons discussed in the preamble, TTB proposes to amend title 27, chapter I, part 9, Code of Federal Regulations, as follows:

PART 9—AMERICAN VITICULTURAL AREAS

1. The authority citation for part 9 continues to read as follows:

Authority: 27 U.S.C. 205.

Subpart C—Approved American Viticultural Areas

2. Subpart C is amended by adding § 9.__ to read as follows:

§ 9.__ Tryon Foothills.

(a) Name. The name of the viticultural area described in this section is “Tryon Foothills”. For purposes of part 4 of this chapter, “Tryon Foothills” is a term of viticultural significance.

(b) Approved maps. The 10 United States Geological Survey (USGS) 1:24,000 scale topographic maps used to determine the boundary of the Tryon Foothills viticultural area are:

(1) Lake Lure, NC, 1982; photoinspected 1987;

(2) Shingle Hollow, NC, 1982;

(3) Pea Ridge, NC, 1982;

(4) Rutherfordton South, NC, 1966;

(5) Fingerville East, SC-NC, 1993 (provisional edition);

(6) Fingerville West, SC-NC, 1983 (provisional edition);

(7) Landrum, SC-NC, 2020;

(8) Saluda, NC-SC, 2019;

(9) Cliffield Mountain, NC, 1997; and

(10) Mill Spring, NC, 1982; photorevised 1990.

(c) Boundary. The Tryon Foothills viticultural area is located in Polk County, North Carolina. The boundary of the viticultural area is as described as follows:

(1) The beginning point is on the Lake Lure map at the intersection of the 1,200-foot elevation contour and the shared Polk-Rutherford County line just west of State Highway 9 and north of an unnamed road known locally as Owl Hollow Road. From the beginning point, proceed clockwise along the shared Polk-Rutherford County line and across the Shingle Hollow, Pea Ridge, and Rutherford South maps and onto the Fingerville East map, to the intersection of the shared Polk-Rutherford County line and the shared North Carolina-South Carolina State line; then

(2) Proceed west along the shared North Carolina-South Carolina State line across the Fingerville East, Fingerville West, and Landrum maps and onto the Saluda map to the intersection of the North Carolina-South Carolina State line with the 1,200-foot elevation contour north of Dug Hill Road; then

(3) Proceed generally northerly along the meandering 1,200-foot elevation contour, crossing back and forth onto the Landrum and Saluda maps and onto the Mill Spring map, and continuing along the 1,200-foot elevation contour as it crosses onto the Cliffield Mountain map and then back onto the Mill Spring map and finally onto the Lake Lure map, returning to the beginning point at the intersection of the 1,200-foot elevation contour and the shared Polk-Rutherford County line just west of State Highway 9.

Signed: December 19, 2023.
Mary G. Ryan,
Administrator.
Approved: December 20, 2023.
Thomas C. West, Jr.,
Deputy Assistant Secretary (Tax Policy).

[FR Doc. 2024-00058 Filed 1-4-24; 8:45 am]

BILLING CODE 4810-31-P